DEPARTMENT OF THE TREASURY

Bureau of Alcohol, Tobacco and Firearms

Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Bureau of Alcohol, Tobacco and Firearms within the Department of the Treasury is soliciting comments concerning the Brewer's Bonds and Continuation Certificates.

DATES: Written comments should be received on or before February 9, 2001 to be assured of consideration.

ADDRESSES: Direct all written comments to Bureau of Alcohol, Tobacco and Firearms, Linda Barnes, 650 Massachusetts Avenue, NW., Washington, DC 20226, (202) 927-8930.

FOR FURTHER INFORMATION CONTACT: Requests for additional information or copies of the form(s) and instructions should be directed to William H. Foster, Regulations Division, 650 Massachusetts Avenue, NW., Washington, DC 20226, (202) 927-8210.

SUPPLEMENTARY INFORMATION: Title: Brewer's Bonds and Continuation Certificates.

OMB Number: 1512-0081.

Form Number: ATF F 5130.22, Brewer's Bond, ATF F 5130.23, Brewer's Bond Continuation Certificate, ATF F 5130.25, Brewer's Collateral Bond, ATF F 5130.27, Brewer's Collateral Bond Continuation Certificate.

Abstract: The Internal Revenue Code requires brewers to give a bond to protect the revenue and to ensure compliance with the requirements of laws and regulations. Bonds and continuation certificates are required by law and are necessary to protect government interests in the excise tax revenues that brewers pay. Brewer's must keep their current bonds for as long as the brewery is in operation.

Current Actions: ATF F 5130.25, Brewer's Collateral Bond is a new form that replaces the attachments, strikeouts and insertions of the existing surety bond, ATF F 5130.22 with a correct and easy-to-use form to meet the requirements of 26 U.S.C. 5401 with collateral transactions instead of a surety bond. ATF F 5130.27, Brewer's Collateral Bond Continuation Certificate is a new form in which a brewer has the option of using this form in order to continue the collateral bond for 4 years. ATF F 5130.22, Brewer's Bond has been revised to include additional instructions that are more easily understood and the entire form has been rewritten in the plain language format. ATF F 5130.23, Brewer's Bond Continuation Certificate has been rewritten in the plain language format and the collateral option transaction has been placed in the new ATF F 5130.27. ATF estimates that the forms will reduce the burden by 25% for each individual, depending on circumstances. The total burden will increase, however, since there is a significant increase in the number of brewers since the last submission.

Type of Review: Revision.

Affected Public: Business or other for-profit.

Estimated Number of Respondents: 1,750.

Estimated Time Per Respondent: 45 minutes per form.

Estimated Total Annual Burden Hours: 600

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: December 4, 2000.
William T. Earle,
Assistant Director (Management), CFO.

[FR Doc. 00-31475 Filed 12-8-00; 8:45 am]

BILLING CODE 4810-31-P